DEPARTMENT OF HEALTH AND HUMAN SERVICES

Centers for Disease Control and Prevention

[Program Announcement 04230]

Promoting Extensive Implementation of Quality Prevention of Mother to Child Transmission (PMTCT) Activities in the Republic of Uganda; Notice of Intent To Fund Single Eligibility Award

A. Purpose

The Centers for Disease Control and Prevention (CDC) announces the intent to fund fiscal year (FY) 2004 funds for a cooperative agreement program to: support the expansion of quality PMTCT program coverage throughout Uganda; conduct PMTCT training; identify gaps in the current national PMTCT program; and develop strategies to fill those gaps and to carry out other PMTCT promotion, policy and quality assurance activities. The overall aim of this program is to promote wide implementation of quality PMTCT programs throughout Uganda.

The Catalog of Federal Domestic Assistance number for this program is 93.941.

B. Eligible Applicant

Assistance will only be provided to Protecting Families Against AIDS (PREFA). No other applications are solicited. PREFA is the only application being solicited because:

1. CDC Uganda was tasked by President Bush's PMTCT Initiative Workstream in fiscal year 2003 with supporting the establishment of a Ugandan NGO focusing on PMTCT. This is a continuation of this activity.

2. None of the other current stakeholders in PMTCT provision has PMTCT as its core activity and all are already overwhelmed with other HIV/AIDS activities.

3. PREFA is the only national NGO specifically supporting Uganda's efforts to provide comprehensive HIV/AIDS prevention, care, treatment and support to families with emphasis on reducing MTCT.

C. Funding

Approximately $520,000 is available in FY 2004 to fund this award. It is expected that the award will begin on or before September 1, 2004, and will be made for a 12-month budget period within a project period of up to five years. Funding estimates may change.

D. Where To Obtain Additional Information

For general comments or questions about this announcement, contact: Technical Information Management, CDC Procurement and Grants Office, 2920 Brandywine Road, Atlanta, GA 30341-4146. Telephone: 770-488-2700.

For program technical assistance, contact: Jonathan Mermin, MD, MPH, Global AIDS Program [GAP], Uganda Country Team, National Center for HIV, STD and TB Prevention, Centers for Disease Control and Prevention [CDC], P.O. Box 49, Entebbe, Uganda. Telephone: +256-41320776. E-mail: jhm@cdc.gov.

For financial, grants management, or budget assistance, contact: Shirley Wynn, Contract Specialist, Procurement and Grants Office, Centers for Disease Control and Prevention, 2920 Brandywine Road, Atlanta, GA 30341-4146. Telephone: 770-488-1515. E-mail address: zbx6@cdc.gov.

Dated: July 16, 2004.
William P. Nichols,
Acting Director, Procurement and Grants Office, Centers for Disease Control and Prevention.

[FR Doc. 04-16806 Filed 7-22-04; 8:45 am]

BILLING CODE 4163-18-P